DEPARTMENT OF THE INTERIOR

Bureau of Indian Affairs

[201A2100DD/AAKC001030/A0A501010.999900 253G]

Agency Plan To Implement the Standards, Assessments, and Accountability System

AGENCY: Bureau of Indian Affairs, Interior.

ACTION: Notice of consultations.

SUMMARY: The Bureau of Indian Education (BIE) will conduct consultations to obtain oral and written comments on the draft BIE Agency Plan, for implementation the Secretary of the Interior's (Secretary) responsibility to establish requirements for standards, assessments, and an accountability system for BIE-funded schools.

DATES: Comments must be received on or before May 8, 2020 at 11:59 p.m. ET. See the SUPPLEMENTARY INFORMATION section of this notice for dates and locations of consultation sessions.

ADDRESSES: Send comments to consultation@bia.gov with “DRAFT BIE AGENCY PLAN COMMENTS” in the email subject line.

FOR FURTHER INFORMATION CONTACT: Juanita Mendoza, Special Assistant, Bureau of Indian Education; phone (202) 208-3559 or email Juanita.Mendoza@bie.edu.

SUPPLEMENTARY INFORMATION: On June 10, 2019, BIE published a proposed rule to govern how the Secretary will establish requirements for standards, assessments, and accountability system for BIE-funded schools consistent with Section 1111 of the Elementary and Secondary Education Act (ESEA), as amended by the Every Student Succeeds Act (ESSA), on a national, regional, or Tribal basis, as appropriate, taking into account the unique circumstances and needs of such schools and the students served by such schools. See 84 FR 26785. The final rule published in the Federal Register on March 26, 2020. The Agency Plan is a Consolidated State Plan aligned to the U.S. Department of Education Consolidated State Plan Template.

BIE's Agency Plan is intended to provide details on how the BIE should implement the requirements for standards, assessments, and accountability system for BIE-funded schools. As such, during consultation BIE seeks input from Indian Tribes, school boards, parents, Indian organizations, and other interested parties regarding best practices for school improvement and support to lowest performing schools as well as the overall vision for improving outcomes for BIE-funded school students as defined in 25 CFR part 30. BIE also seeks input regarding those parts of the draft BIE Agency Plan that have not been established as requirements through the final rule.

Further, BIE would appreciate input regarding long-term goals and annual meaningful differentiation and identification of schools (comprehensive support and improvement activities and targeted support and improvement activities), and any other suggestions that would improve BIE's delivery of high-quality educational services and supports to students at BIE funded schools.

BIE will conduct five consultation sessions through telephonic webinar. Three sessions are designated for Tribal representatives or the designee, and two sessions are designated for school boards, parents, teachers, and other public stakeholders. BIE will accept both oral and written comments. The following table lists dates and consultation teleconference webinar registration information. After registering, you will receive a confirmation email containing information about joining the meeting.

For: | Dates | Time (EDT) | To join webinar:
Tribes | April 27, April 29, and May 1 | 5 p.m.-7 p.m | Register in advance for this meeting: https://zoom.us/meeting/register/u5cqcu6qqDkjJn6abe59TkT9PrgTFD2lSQ. After registering, you will receive a confirmation email containing information about joining the meeting.
Public | April 28 and April 30 | 5 p.m.-7 p.m | Register in advance for this meeting: https://zoom.us/meeting/register/vJAkfu-orj0p-N3KKnwHEc3yqPDeViMrFA. After registering, you will receive a confirmation email containing information about joining the meeting.

The Tribal consultation presentation and background information on the U.S. Department of Education Consolidated State Plan Template is available at www.bie.edu/tribalconsultations. The BIE strongly recommends reviewing the BIE's web page prior to attending a consultation session or submitting written comments in order to for provide for meaningful feedback.

Public Comment Availability

Written comments, including names and addresses of respondents, will be available for public review at the location listed in the ADDRESSES section of this notice, during regular business hours, 8 a.m. to 4:30 p.m., Monday through Friday, except for Federal holidays. Before including your address, telephone number, email address, or other personal identifying information in your comment, be aware that your entire comment—including your personal identifying information—may be made publicly available at any time. While you can ask us in your comment to withhold your personal identifying information from public review, we cannot guarantee that we will be able to do so.

Tara Sweeney,
Assistant Secretary—Indian Affairs.

[FR Doc. 2020-06550 Filed 3-26-20; 8:45 am]

BILLING CODE 4337-15-P